DEPARTMENT OF TRANSPORTATION

Federal Aviation Administration

14 CFR Part 39

[Docket No. FAA-2008-0523; Directorate Identifier 2008-NM-049-AD; Amendment 39-15648; AD 2008-17-10]

RIN 2120-AA64

Airworthiness Directives; Boeing Model 707 Airplanes, and Model 720 and 720B Series Airplanes

AGENCY: Federal Aviation Administration (FAA), DOT.

ACTION: Final rule.

SUMMARY: We are adopting a new airworthiness directive (AD) for certain Boeing Model 707 airplanes, and Model 720 and 720B series airplanes. This AD requires repetitive detailed inspections to detect cracks and corrosion on any existing repairs and at certain body stations of the visible surfaces of the wing to body terminal fittings including the web, flanges, and ribs; and applicable related investigative and corrective actions. This AD results from reports of cracks found in the wing to body terminal fittings during routine inspections. We are issuing this AD to prevent cracks and corrosion in the body terminal fittings, which could cause loss of support for the wing and could adversely affect the structural integrity of the airplane.

DATES: This AD is effective October 2, 2008.

The Director of the Federal Register approved the incorporation by reference of a certain publication listed in this AD as of October 2, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Berhane Alazar, Aerospace Engineer, Airframe Branch, ANM-120S, FAA, Seattle Aircraft Certification Office, 1601 Lind Avenue, SW., Renton, Washington 98057-3356; telephone (425) 917-6577; fax (425) 917-6590.

SUPPLEMENTARY INFORMATION:

Discussion

We issued a notice of proposed rulemaking (NPRM) to amend 14 CFR part 39 to include an airworthiness directive (AD) that would apply to certain Boeing Model 707 airplanes, and Model 720 and 720B series airplanes. That NPRM was published in the Federal Register on May 8, 2008 (73 FR 26043). That NPRM proposed to require repetitive detailed inspections to detect cracks and corrosion on any existing repairs and at certain body stations of the visible surfaces of the wing to body terminal fittings including the web, flanges, and ribs; and applicable related investigative and corrective actions.

Comments

We gave the public the opportunity to participate in developing this AD. We received no comments on the NPRM or on the determination of the cost to the public.

Conclusion

We reviewed the relevant data and determined that air safety and the public interest require adopting the AD as proposed.

Costs of Compliance

We estimate that this AD affects 5 airplanes of U.S. registry. The following table provides the estimated costs for U.S. operators to comply with this AD.

Estimated Costs
Action | Work hours | Average labor rate per hour | Cost per product | Number of U.S.-registered airplanes | Fleet cost
Inspections | 20 | $80 | $1,600, per inspection cycle | 5 | $8,000, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-17-10 Boeing: Amendment 39-15648. Docket No. FAA-2008-0523; Directorate Identifier 2008-NM-049-AD.

Effective Date

(a) This airworthiness directive (AD) is effective October 2, 2008.

Affected ADs

(b) None.

Applicability

(c) This AD applies to Model 707-100 long body, -200, -100B long body, and -100B short body series airplanes; Model 707-300, -300B, -300C, and -400 series airplanes; and Model 720 and 720B series airplanes, certificated in any category; as identified in Boeing 707 Special Attention Service Bulletin 3524, dated July 18, 2007.

Unsafe Condition

(d) This AD results from reports of cracks found in the wing to body terminal fittings during routine inspections. We are issuing this AD to prevent cracks and corrosion in the body terminal fittings, which could cause loss of support for the wing and could adversely affect the structural integrity of the airplane.

Compliance

(e) Comply with this AD within the compliance times specified, unless already done.

Inspections and Corrective Actions

(f) Within 24 months after the effective date of this AD, do detailed inspections and applicable related investigative and corrective actions, by accomplishing all the actions specified in the Accomplishment Instructions of Boeing 707 Special Attention Service Bulletin 3524, dated July 18, 2007, except as provided by paragraph (g) of this AD. Repeat the detailed inspections thereafter at intervals not to exceed 24 months. Do all applicable related investigative and corrective actions before further flight.

(g) If any crack or corrosion is found during any inspection required by paragraph (f) of this AD, and Boeing 707 Special Attention Service Bulletin 3524, dated July 18, 2007, specifies to contact Boeing for appropriate action: Before further flight, repair the terminal fittings using a method approved in accordance with the procedures specified in paragraph (i) of this AD.

No Information Submission

(h) Although Boeing 707 Special Attention Service Bulletin 3524, dated July 18, 2007, specifies to submit information to the manufacturer, this AD does not include that requirement.

Alternative Methods of Compliance (AMOCs)

(i)(1) The Manager, Seattle Aircraft Certification Office (ACO), FAA, ATTN: Berhane Alazar, Aerospace Engineer, Airframe Branch, ANM-120S, 1601 Lind Avenue SW., Renton, Washington 98057-3356; telephone (425) 917-6577; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(j) You must use Boeing 707 Special Attention Service Bulletin 3524, dated July 18, 2007, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue SW., Renton, Washington; or at the National Archives and Records Administration (NARA). For information on the availability of this material at NARA, call 202-741-6030, or go to: http://www.archives.gov/federal_register/code_of_federal_regulations/ibr_locations.html.

Issued in Renton, Washington, on August 6, 2008.
Ali Bahrami,
Manager, Transport Airplane Directorate, Aircraft Certification Service.

[FR Doc. E8-19136 Filed 8-27-08; 8:45 am]

BILLING CODE 4910-13-P